DEPARTMENT OF HEALTH AND HUMAN SERVICES

National Institutes of Health

Government-Owned Inventions; Availability for Licensing

AGENCY: National Institutes of Health, HHS.

ACTION: Notice.

SUMMARY: The inventions listed below are owned by an agency of the U.S. Government and are available for licensing to achieve expeditious commercialization of results of federally-funded research and development.

FOR FURTHER INFORMATION CONTACT: Licensing information may be obtained by communicating with Betty B. Tong, Ph.D., National Institute of Diabetes and Digestive and Kidney Diseases, Technology Advancement Office, 12A South Drive Suite 3011, Bethesda, MD 20892; telephone: 301-451-7836; email: tongb@mail.nih.gov. A signed Confidential Disclosure Agreement may be required to receive any unpublished information.

SUPPLEMENTARY INFORMATION: Technology description follows.

Triazole Derivatives as P2Y14 Receptor Antagonists

The technology describes the composition of small molecule compounds that are antagonists of the P2Y14 receptor. Also provided are methods of using the compounds, including a method of treating a disorder, such as inflammation, diabetes, insulin resistance, hyperglycemia, a lipid disorder, obesity, a condition associated with metabolic syndrome, and asthma, and a method of antagonizing P2Y14 receptor activity in a cell. This technology is available for licensing for commercial development in accordance with 35 U.S.C. 209 and 37 CFR part 404.

Potential Commercial Applications:

Development of P2Y14 receptor antagonist for treatment of disorders, such as:

• Inflammation

• diabetes

• obesity

• asthma

• lipid disorder

• metabolic syndrome

Development Stage

• Early stage

Inventors: Kenneth A. Jacobson (NIDDK), Anna Junker, Elisa Uliassi (NIDDK), Evgeny Kiselev (NIDDK)

Publications: Junker A, Balasubramanian R, Ciancetta A, et al., Structure-based design of 3-(4-aryl-1H-1,2,3-triazol-1-yl)-biphenyl derivatives as P2Y14 receptor antagonists. J. Med. Chem., 2016, 59:6149−6168.

Intellectual Property: HHS Reference No. E-213-2015-0, U.S. Patent No. 10,683,277, issued June 16, 2020, EP Patent Application 16774825.0, filed Sept. 23, 2016, Chinese Patent Application 201680064441.5, filed Sept. 23, 2016.

Licensing Contact: Betty B. Tong, Ph.D.; 301-451-7836; tongb@mail.nih.gov. This notice is made in accordance with 35 U.S.C. 209 and 37 CFR part 404.

Dated: November 19, 2020.
Bei Tong,
Senior Licensing and Patenting Manager, National Institute of Diabetes and Digestive and Kidney Diseases, Technology Advancement Office.

[FR Doc. 2020-26169 Filed 11-25-20; 8:45 am]

BILLING CODE 4140-01-P